DEPARTMENT OF DEFENSE

Department of the Army

[Docket ID: USA-2010-0027]

Privacy Act of 1974; System of Records

AGENCY: Department of the Army, DoD.

ACTION: Notice to add a system of records.

SUMMARY: The Department of the Army proposes to add a system of records to its inventory of record systems subject to the Privacy Act of 1974 (5 U.S.C. 552a), as amended.

DATES: This proposed action would be effective without further notice on December 22, 2010 unless comments are received which result in a contrary determination.

ADDRESSES: You may submit comments, identified by docket number and/Regulatory Information Number (RIN) and title, by any of the following methods:

• Federal Rulemaking Portal: http://www.regulations.gov Follow the instructions for submitting comments.

• Mail: Federal Docket Management System Office, Room 3C843, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Department of the Army, Privacy Office, U.S. Army Records Management and Declassification Agency, 7701 Telegraph Road, Casey Building, Suite 144, Alexandria, VA 22325-3905, Mr. Leroy Jones at (703) 428-6185.

SUPPLEMENTARY INFORMATION: The Department of the Army notices for systems of records subject to the Privacy Act of 1974 (5 U.S.C. 552a), as amended, have been published in the Federal Register and are available from the FOR FURTHER INFORMATION CONTACT address above.

The proposed system report, as required by 5 U.S.C. 552a(r) of the Privacy Act of 1974, as amended, was submitted on November 12, 2010, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: November 12, 2010.
Morgan F. Park,
Alternate OSD Federal Register Liaison Officer, Department of Defense.

A0215-3a FMWRC (DoD)

System Name:

Department of Defense Non-appropriated Fund Health Benefits (DODNHB).

System Location:

Aetna Inc., 151 Farmington Avenue, Hartford, CT 06156-0001.

Categories of individuals covered by this system:

Current and retired Non-appropriated Fund (NAF) employees of the U.S. Army (USA), U.S. Navy (USN), U.S. Air Force (USAF), U.S. Marine Corps (USMC), Army and Air Force Exchange System (AAFES) and the Navy Exchange Services Command (NEXCOM) who participate in the DoD NAF Health Program administered by Aetna.

Categories of records in the system:

This information includes full name, address, phone numbers, date of birth, gender, current status (actively employed or retired), Social Security Numbers (SSN), ethnicity, medical diagnostic codes, and charges for health care.

Authority for maintenance of the system:

Section 349 of Public Law number 103-337, formerly the National Defense Authorization Act for Fiscal Year 1995; Sections 102a and 262 of Public Law number 104-191, the Health Insurance Portability and Accountability Act of 1996; Public Law number 110-173 Medicare, Medicaid and SCHIP Extension Act (MMSEA) of 2007, E.O., 9397, (SSN), as amended.

Purpose(s):

The DoDNHB system is used to administer a number of health care plans for Non-appropriated Fund (NAF) employees of the Army, Navy, Air Force, Marine Corps, Army-Air Force Exchange Service (AAFES) and the Navy Exchange Command (NEXCOM). Health plan administration includes such functions as maintaining a database of subscribers, tracking claims, negotiating payments to health care providers and providing reports to the DoD program office.

Routine uses of records maintained in the system, including categories of users and purposes of such uses:

In addition to those disclosures generally permitted under 5 U.S.C. 552a(b) of the Privacy Act of 1974, these records contained therein may specifically be disclosed outside the DoD as routine use pursuant to 5 U.S.C. 552a(b)(3) as follows:

The DoD `Blanket Routine Uses' set forth at the beginning of the Army's compilation of systems of records notices also apply to this system.

Note: This system of records contains Personal Identifiable Information. The DoD Health Information Privacy Regulation (DoD 6025.18-R) issued pursuant to the Health Insurance Portability and Accountability Act of 1996, applies to most such health information. DoD 6025.18-R may place at any time additional procedural requirements on the uses and disclosures of such information beyond those found in the Privacy Act of 1974 or mentioned in this system of records notice.

Policies and practices for storing, retrieving, accessing, retaining and disposing of records in the system:

Storage:

Electronic storage media.

Retrievability:

Retrieved by the employee using a unique username and password. Aetna administrators/managers retrieve individual employee data using an internally-generated number based on the plan number and customer number or Social Security Number (SSN).

Safeguards:

DODNHB is hosted at the Aetna corporate datacenter. Access to DoD employee data is limited to authorized users with a need-to-know and incorporates a “least privilege” policy for file permissions. The contract between Aetna and DoD requires a high level of information protection to include data-at-rest encryption. Regular reports on the status of information security measures are required, as is immediate notification of possible failures. Data records are maintained in datacenter facilities that are secured 24 hours per day with restricted access. Data access is restricted to the DoD NAF employee, individuals with a business “need-to-know” and authorized technical administrators.

Retention and disposal:

Records are retained for seven (7) years following disenrollment of the DoD NAF employee from the health plan. Record disposal is done by securely erasing the electronic media on which the data was stored. Some data is received in paper forms. This data is transferred to electronic media and the paper forms are immediately destroyed by shredding.

System manager and address:

NAF Employee Benefits Program Administrator, NAF Personnel Policy Office (CPMS-AN), 1400 Key Boulevard, Suite B200, Arlington, VA 22209-1556.

Program managers for each Service/Non Appropriate Fund Insurance are:

For current or retired USA NAF employees: Chief, NAF Employee Benefits Office, Family and Morale, Welfare and Recreation Command, 4700 King Street, 3rd Floor, Alexandria, VA 22302-4400.

For current or retired USN NAF employees: Commander Navy Installations Command—Head, NAF Human Resources, CNIC, Millington Detachment, 7736 Kitty Hawk Drive, Building 457, N253, Millington, CT 38054-0001.

For current or retired USAF NAF employees: Chief, NAF Employee Benefits Office, HQ AFSVA/SVXBI, 10100 Reunion Plaza, Suite 502, San Antonio, TX 78216-4188.

For current or retired USMC NAF employees: Program Manager, Employee Benefits, Headquarters U.S. Marine Corps, Personal and Family Readiness Division, 3044 Catlin Avenue, Quantico, VA 22134-5003.

For current or retired AAFES NAF employees: Director of Employee Benefits, HQ AAFES, FA-T/Benefits, 3911 Walton Walker Boulevard, Dallas, TX 75236-1509.

For current or retired NEXCOM NAF employees: Director Employee Benefits, Navy Exchange Service Command, 3280 Virginia Beach Boulevard, Virginia Beach, VA 23452-5724.

Notification procedure:

Individuals seeking to determine whether information about themselves is contained in this system should address written inquiries to:

For current or retired USA NAF employees: Chief, NAF Employee Benefits Office, Family and Morale, Welfare and Recreation Command, 4700 King Street, 3rd Floor, Alexandria, VA 22302-4400.

For current or retired USN NAF employees: Commander Navy Installations Command—Head, NAF Human Resources, CNIC, Millington Detachment, 7736 Kitty Hawk Drive, Building 457, N253, Millington, CT 38054-0001.

For current or retired USAF NAF employees: Chief, NAF Employee Benefits Office, HQ AFSVA/SVXBI, 10100 Reunion Plaza, Suite 502, San Antonio, TX 78216-4188.

For current or retired USMC NAF employees: Program Manager, Employee Benefits, Headquarters U.S. Marine Corps, Personal and Family Readiness Division, 3044 Catlin Avenue, Quantico, VA 22134-5003.

For current or retired AAFES NAF employees: Director of Employee Benefits, HQ AAFES, FA-T/Benefits, 3911 Walton Walker Boulevard, Dallas, TX 75236-1509.

For current or retired NEXCOM NAF employees: Director Employee Benefits, Navy Exchange Service Command, 3280 Virginia Beach Boulevard, Virginia Beach, VA 23452-5724.

Requests should contain full name, last four digits of Social Security Number (SSN), date of birth, current status (actively employed or retired) and current mailing address with any details which may assist in locating records, and their signature.

In addition, the requester must provide a notarized statement or an unsworn declaration made in accordance with 28 U.S.C. 1746, in the following format:

If executed outside the United States:

`I declare (or certify, verify, or state) under penalty of perjury under the laws of the United State of America that the foregoing is true and correct. Executed on (date). (Signature)'.

If executed within the United States, its territories, possessions, or commonwealths: `I declare (or certify, verify, or state) under penalty of perjury that the foregoing is true and correct. Executed on (date). (Signature)'.”

Record access procedures:

Individuals seeking access to information about themselves contained in this system should address written inquiries to the appropriate DoD NAF employer below.

For current or retired USA NAF employees: Chief, NAF Employee Benefits Office, Family and Morale, Welfare and Recreation Command, 4700 King Street, 3rd Floor, Alexandria, VA 22302-4400.

For current or retired USN NAF employees: Commander Navy Installations Command—Head, NAF Human Resources, CNIC, Millington Detachment, 7736 Kitty Hawk Drive, Building 457, N253, Millington, CT 38054-0001.

For current or retired USAF NAF employees: Chief, NAF Employee Benefits Office, HQ AFSVA/SVXBI, 10100 Reunion Plaza, Suite 502, San Antonio, TX 78216-4188.

For current or retired USMC NAF employees: Program Manager, Employee Benefits, Headquarters U.S. Marine Corps, Personal and Family Readiness Division, 3044 Catlin Avenue, Quantico, VA 22134-5003.

For current or retired AAFES NAF employees: Director of Employee Benefits, HQ AAFES, FA-T/Benefits, 3911 Walton Walker Boulevard, Dallas, TX 75236-1509.

For current or retired NEXCOM NAF employees: Director Employee Benefits, Navy Exchange Service Command, 3280 Virginia Beach Boulevard, Virginia Beach, VA 23452-5724.

For verification purposes, individuals should provide their full name, last four digits of Social Security Number (SSN), date of birth, current status (current employee or retired) and current mailing address and any details which may assist in locating record, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Contesting record procedures:

The Army's rules for accessing records, and for contesting contents and appealing initial agency determinations are contained in Army Regulation 340-21; 32 CFR part 505; or may be obtained from the system manager. Denial to amend records in this system can be made only by the NAF Employee Benefits Program Administrator.

Individuals wishing to contest the content or existence of a record containing their personal or medical information should address written inquiries to the HIPAA privacy official for the DoDNHB system at: NAF Employee Benefits Program Administrator, NAF Personnel Policy Office (CPMS-AN), 1400 Key Boulevard, Suite B200, Arlington, VA 22209-1556.

Record source categories:

Employee personal and eligibility data from the six DoD NAF employers, transmitted by electronic data transfer and paper application forms. Medical and billing information from health care providers, transmitted electronically. Data interchanges, required by Section 111 of Public Law 110-173, take place between Aetna and the Centers for Medicare & Medicaid Services in the Department of Health and Human Services.

Exemptions claimed for the system:

None.

[FR Doc. 2010-29339 Filed 11-19-10; 8:45 am]

BILLING CODE 5001-06-P